DEPARTMENT OF COMMERCE

National Oceanic and Atmospheric Administration

RIN 0648-XE201

Notice of Availability of the Deepwater Horizon Oil Spill Texas Trustee Implementation Group Draft 2017 Restoration Plan and Environmental Assessment: Restoration of Wetlands, Coastal, and Nearshore Habitats; and Oysters; Correction

AGENCY: National Marine Fisheries Service, National Oceanic and Atmospheric Administration, Department of Commerce.

ACTION: Notice of availability; correction.

SUMMARY: NMFS published a document in the Federal Register of May 18, 2017, to announce two meetings to inform the public of the availability of the Draft Restoration Plan and Environmental Assessment and to invite the public to provide written and oral comments. The document contained an error in the date for persons with disabilities to request special accommodations. This document corrects the error by clarifying that no request for American Sign Language accommodations is necessary. All other information contained in the original document remains unchanged.

FOR FURTHER INFORMATION CONTACT:

• National Oceanic and Atmospheric Administration—Jamie Schubert, Jamie.Schubert@noaa.gov;

• Texas Parks and Wildlife Department—Don Pitts, Don.Pitts@tpwd.texas.gov.

SUPPLEMENTARY INFORMATION:

Correction

In the Federal Register of May 18, 2017, in FR Doc. 2017-10008, on page 22812, in the third column, under the heading, “Public Meeting Schedule,” the last paragraph is corrected to read:

“Written and oral comments on the Draft RP/EA may be submitted at the public meetings. American Sign Language translation services will be provided at both public meetings.”

Authority

The authority for this action is OPA (33 U.S.C. 2701 et seq.) and the OPA NRDA regulations at 15 CFR part 990.

Dated: May 26, 2017.
Carrie Selberg,
Deputy Director, Office of Habitat Conservation, National Marine Fisheries Service.

[FR Doc. 2017-11317 Filed 5-26-17; 4:15 pm]

BILLING CODE 3510-22-P